DEPARTMENT OF JUSTICE

Notice of Lodging of Consent Decree Under the Oil Pollution Act of 1990

Notice is hereby given that on September 12, 2008, a proposed consent decree in United States of America, the State of Washington, and Suquamish Tribe v. Foss Maritime Co., Civil Action No. 08-cv-1364, was lodged with the United States District Court for the Western District of Washington.

The Complaint, filed by the Plaintiffs who are Trustees for natural resources, alleges that the defendant, Foss Maritime Company, is liable for natural resource damages pursuant to the Oil Pollution Act of 1990 (“OPA”), 33 U.S.C. 2701 et seq., resulting from the discharge of oil into Puget Sound on December 30, 2003, from a tank barge owned and operated by the defendant at the Point Wells terminal in Shoreline, Washington (hereinafter “Foss Oil Spill”). In the Consent Decree, the defendant has agreed to pay $382,123 to the Trustees. This amount will reimburse the Trustees for their natural resource damage assessment costs and finance several restoration projects that will be undertaken to restore the natural resources lost and damaged in the Foss Oil Spill.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to United States, et. al. v. Foss Maritime Co., Civil Action No. 08-cv-1364, Ref. No. 90-5-1-1-08642.

During the comment period, the Consent Decree may be examined on the following Department of Justice Web site: http://www.usdoj.gov/enrd/Consent_Decrees.html. A copy of the Consent Decree may also be examined at the Office of the United States Attorney, Western District of Washington, 700 Stewart Street Suite 5220, Seattle, WA 98101-1271, (206) 553-7970. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $6.50 (25 cents per page reproduction cost) payable to the United States Treasury or, if by e-mail or fax, forward a check in that amount to the Consent Decree Library at the stated address.

Robert E. Maher, Jr.,
Assistant Section Chief Environmental Enforcement Section, Environment and Natural Resources.

[FR Doc. E8-22118 Filed 9-22-08; 8:45 am]

BILLING CODE 4410-15-P